DEPARTMENT OF STATE

[Public Notice 6373]

Shipping Coordinating Committee; Notice of Committee Meeting

The Shipping Coordinating Committee (SHC) will conduct an open meeting at 10 a.m. on Tuesday, March 23, 2010, at the offices of the Radio Technical Commission for Maritime Services (RTCM), 1800 N. Kent Street, Suite 1060, Arlington, VA 22209. The primary purpose of the meeting is to prepare for the fifty-fourth Session of the International Maritime Organization (IMO) Subcommittee on Fire Protection (FP) to be held at the IMO Headquarters, United Kingdom, from April 12 to April 16, 2010.

The primary matters to be considered include:

— Performance testing & approval standards for fire safety systems

—Comprehensive review of the fire test procedures code

—Fire resistance of ventilation ducts

—Measures to prevent explosions on oil and chemical tankers transporting low flash point cargoes

—Clarification of SOLAS chapter II-2 requirements regarding interrelationship between central control station and safety centre

—Explanatory notes for the application of the safe return to port requirements

—Recommendation on evacuation analysis for new and existing passenger ships

—Consideration of IACS unified interpretations

—Fixed hydrocarbon gas detection systems on double-hull tankers

—Harmonization of the requirements for the location of entrances, air inlets and openings in the superstructure of tankers

—Amendments to chapter II-2 related to the releasing controls and means of escape for spaces protected by fixed carbon dioxide systems

—Means of escape from machinery spaces

—Review of fire protection for on-deck cargoes

—Revision of the Recommendations for entering enclosed spaces aboard ships

—Fire integrity of bulkheads and decks of ro-ro spaces on passenger and cargo ships

—Requirements for ships carrying hydrogen and compressed natural gas vehicles

—Guidelines for a visible element to general emergency alarm systems on passenger ships

—Means for recharging air bottles for air breathing apparatuses

—Any other business

Members of the public may attend this meeting up to the seating capacity of the room. To facilitate the building security process, those who plan to attend should contact the meeting coordinator, Mr. Randall Eberly, by e-mail at randall.eberly@uscg.mil, by phone at (202) 372-1393, by fax at (202) 372-1925, or in writing at Commandant (CG-5214), U.S. Coast Guard, 2100 2nd Street, SW., Stop 7126, Washington, DC 20593-7126. A member of the public requesting reasonable accommodation should make such request prior to March 16, 2010, 7 days prior to the meeting. Requests made after this date may not be able to be accommodated. RTCM Headquarters is adjacent to the Rosslyn Metro station. For further directions and lodging information, please see: http://www.rtcm.org/visit.php. Additional information regarding this and other IMO SHC public meetings may be found at: http://www.uscg.mil/imo.

Dated: March 2, 2010.
Jon Trent Warner,
Executive Secretary, Shipping Coordinating Committee, Department of State.

[FR Doc. 2010-4853 Filed 3-5-10; 8:45 am]

BILLING CODE 4710-09-P